DEPARTMENT OF DEFENSE

Department of the Navy

Meeting of the Board of Advisors (BOA) to The President of the Naval Postgraduate School (NPS) Subcommittee

AGENCY: Department of the Navy, DoD.

ACTION: Notice.

SUMMARY: Pursuant to the provisions of The Federal Advisory Committee Act (Pub. L. 92-463, as amended), notice is hereby given that the following meeting of the Board of Advisors to the President of the Naval Postgraduate School will be held. This meeting will be open to the public.

DATES: The meeting will be held on Wednesday, April 20, 2016 from 8:00 a.m. to 4:00 p.m. and on Thursday, April 21, 2016 from 8:00 a.m. to 12:00 p.m. Pacific Time Zone.

ADDRESSES: The meeting will be held at the Naval Postgraduate School, Executive Briefing Center, Herrmann Hall, 1 University Circle, Monterey, CA.

FOR FURTHER INFORMATION CONTACT: Ms. Jaye Panza, Designated Federal Official, 1 University Circle, Code 00H, Monterey, CA 93943-5001, telephone number 831-656-2514.

SUPPLEMENTARY INFORMATION: The purpose of the Board is to advise and assist the President, NPS, in educational and support areas, providing independent advice and recommendations on items such as, but not limited to, organizational management, curricula, methods of instruction, facilities, and other matters of interest. The agenda for the meeting will include the following:

—Administrative Matters

—Updates on end-strength issue

—Recap and closing out 2012 IG report

—Routine 2016 IG Visit Recap

—Command climate survey results

—Faculty morale and retention rates

—Discussions with faculty members; faculty leaders; students

—Update on Navy investments in the infrastructure (buildings, classrooms, labs, test equipment)

—Campus tours

Individuals without a DoD Government Common Access Card require an escort at the meeting location. For access, information, or to send written statements for consideration at the committee meeting contact Ms. Jaye Panza, Designated Federal Officer, Naval Postgraduate School, 1 University Circle, Monterey, CA 93943-5001 or by fax 831-656-2789 by March 31, 2016.

Dated: March 28, 2016.
C. Pan,
Lieutenant, Judge Advocate General's Corps, U.S. Navy, Alternate Federal Register Liaison Officer.

[FR Doc. 2016-07422 Filed 3-31-16; 8:45 am]

BILLING CODE 3810-FF-P